DEPARTMENT OF STATE

[Public Notice 8803]

30-Day Notice of Proposed Information Collection: Statement of Non-Receipt of a U.S. Passport

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to August 21, 2014.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to U.S. Department of State, Bureau of Consular Affairs, Passport Services, Office of Program Management and Operational Support, 2201 C Street, NW., Washington, DC 20520, who may be reached on (202) 485-6373 or at PPTFormsOfficer@state.gov.

SUPPLEMENTARY INFORMATION:

• Title of Information Collection: Statement of Non-Receipt of a U.S. Passport.

• OMB Control Number: 1405-0146.

• Type of Request: Revision of a Currently Approved Collection.

• Originating Office: Bureau of Consular Affairs, Passport Services, Office of Program Management and Operational Support, Program Coordination Division CA/PPT/S/PMO/PC.

• Form Number: DS-86.

• Respondents: Individuals who have not received the passport for which they originally applied.

• Estimated Number of Respondents: 15,005 per year.

• Estimated Number of Responses: 15,005 per year.

• Average Hours per Response: 15 minutes.

• Total Estimated Burden: 3,751 hours.

• Frequency: On Occasion.

• Obligation to Respond: Required to Obtain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection:

The Statement of Non-Receipt of a U.S. Passport, Form DS-0086 is used by the U.S. Department of State to collect information for the purpose of issuing a replacement passport to customers who have not received the passport for which they originally applied. There were no comments received in response to the 60-day Federal Register notice for this information collection (79 FR 18111).

Methodology:

Passport applicants who do not receive their passports are required to complete a Statement of Non-Receipt of a Passport, Form DS-86. Passport applicants may either download the form from the www.Travel.State.gov or obtain a copy from an Acceptance Facility/Passport Agency. The form must be completed, signed, and then submitted to the issuing Passport Agency for passport re-issuance.

Dated: July 15, 2014.
Brenda S. Sprague,
Deputy Assistant Secretary for Passport Services, Bureau of Consular Affairs, Department of State.

[FR Doc. 2014-17222 Filed 7-21-14; 8:45 am]

BILLING CODE 4710-06-P